DEPARTMENT OF HOMELAND SECURITY

Bureau of Customs and Border Protection

Modification of Free and Secure Trade Prototype

AGENCY: Bureau of Customs and Border Protection, DHS.

ACTION: General notice.

SUMMARY: This document modifies the Free and Secure Trade (FAST) prototype eligibility and application requirements from those previously set forth in the Federal Register, and provides updated FAST border site selections. The FAST prototype provides expedited processing of participants' qualifying merchandise in designated traffic lanes at select border sites. FAST processing utilizes two separate cargo release mechanisms-a fully electronic system and a semi-electronic system known as PAPS. The FAST prototype is modified to include Southern border sites and additional Northern border sites.

To be eligible for FAST processing along the Northern and Southern borders, merchandise must be entered by a C-TPAT-approved (Customs-Trade Partnership Against Terrorism) importer; transported by a C-TPAT-approved highway carrier participating under either the U.S./Canada Border Highway Carriers Agreement or the Southern Border Highway Carriers Agreement; and driven by a FAST-registered commercial driver. In addition, in order to be eligible for FAST processing along the Southern border, merchandise must be manufactured by a C-TPAT-approved foreign manufacturer and securely sealed by the manufacturer.

To be eligible for the fully electronic cargo release system under FAST, the importer, highway carrier, commercial driver, and foreign manufacturer, where applicable, must meet the guidelines described above, and the importer must submit a detailed application to CBP.

EFFECTIVE DATES: This modification of the FAST program is effective on September 25, 2003. This prototype will be tested until the Automated Commercial Environment (ACE) is completed. Applications to participate in this prototype, where appropriate, may be submitted at any time throughout the duration of this test. Evaluations of the prototype will occur periodically.

ADDRESSES: Written requests to participate in the FAST program, as necessary, should be sent to Customs and Border Protection, FAST Registration Office, 50 South Main Street, Suite 100R, St. Albans, Vermont 05478. Comments regarding any aspect of the test should be sent or faxed to Enrique S. Tamayo, Customs and Border Protection, 1300 Pennsylvania Avenue, NW., Room 5.2A, Washington, DC 20229, telephone number: (202) 927-3112; fax number: (202) 927-1096.

FOR FURTHER INFORMATION CONTACT: For detailed information and application procedures on the C-TPAT and FAST initiatives, visit the CBP Web site at http://www.cbp.gov.

For inquiries regarding the eligibility of specific importers: Robert Thommen at (202) 927-0256;

For questions on reconciliation: John Leonard at (202) 927-0915;

For questions on statement processing: Debbie Scott at (202) 927-1962;

For questions on violation billing: Donald Yando at (202) 927-1082;

For questions on other aspects of the FAST Prototype: Daniel Buchanan at (617) 565-6236.

SUPPLEMENTARY INFORMATION:

Background

On March 27, 1997 the U.S. Customs Service (now Customs and Border Protection, or CBP) published a General notice in the Federal Register (62 FR 14731) that announced Customs plan to conduct a test, pursuant to § 101.9(b) of the Customs Regulations (19 CFR 101.9(b)), of a planned National Customs Automation Program component (see 19 U.S.C. 1411-1414) called an account-based declaration prototype, known by the acronym NCAP/P. This phase of the NCAP/P test, utilizing a fully electronic cargo release system, was initially limited to certain importers that imported certain merchandise by truck through three ports.

On August 21, 1998, Customs published a General notice in the Federal Register (63 FR 44949) revising the importer eligibility requirements for participation in the fully electronic cargo release system under NCAP/P, incorporating enhancements to reconciliation, clarifying the statement process, outlining the development and evaluation methodology that would be used in the test, and inviting public comment on any aspect of the planned test. The notice also included general requirements for the prototype, and information on remote location filing, maintenance of account, misconduct procedures, and suspension of regulatory provisions.

On December 16, 2002, a General notice was published in the Federal Register (67 FR 77128) announcing the redesignation of the National Customs Automation Program test of an Account-Based Declaration Prototype (NCAP/P) as the Free and Secure Trade (FAST) prototype. The program was expanded to include the semi-electronic Pre-Arrival Processing System (PAPS), a modified usage of the cargo selectivity for trucks arriving from Canada.

FAST Prototype—General Information

The FAST prototype is subject to the provisions set forth in the August 21, 1998 notice, except as modified in today's notice. For ease of reference, today's notice contains information on participating in FAST-PAPS and all other pertinent information published in the December 16, 2002 notice.

The FAST program provides expedited processing of participants' qualifying merchandise in designated traffic lanes at select border sites. The FAST program is designed to enhance security and safety along the Northern and Southern borders, while also enhancing the economic prosperity of the U.S., Canada, and Mexico by aligning, to the maximum extent possible, their customs commercial programs.

The NCAP/P (now FAST) originally utilized only a fully electronic cargo release system. Because only one release system existed, reference to the NCAP/P prototype and its release system was interchangeable. Subsequently, upon redesignation of the NCAP/P to FAST, a second cargo release system under the FAST prototype, known as PAPS, was created. Therefore, expedited processing under the FAST prototype became available via both PAPS and the original fully electronic cargo release method.

FAST-PAPS is an automated cargo release procedure available for merchandise imported by C-TPAT-approved (Customs-Trade Partnership Against Terrorism) importers participating in Automated Broker Interface (ABI) entry procedures (see 19 CFR part 143, subparts A and D). Unlike the fully electronic version of FAST, FAST-PAPS makes use of paper Inward Manifest forms and paper invoices, and no application is required for participation in expedited processing via FAST-PAPS. ABI importers can utilize FAST-PAPS with minimal changes to their operating systems and processes.

FAST-PAPS requires an importer to submit to CBP certain entry data prior to the arrival of the merchandise at the designated port of entry for cargo selectivity concerns. The carrier must work with the manufacturer and the importer to ensure that the data is available to the importer in advance of arrival at the border. The carrier must utilize barcode technology to expedite the release of the shipment by attaching a unique barcode label, which consists of the carriers Standard Carrier Alpha Code (SCAC) and either a pro bill of lading (BOL) number or a unique transaction (UT) number to each invoice and truck manifest prior to the importation of merchandise. The invoice and the SCAC/BOL or SCAC/UT number is then transmitted to the customs broker, who prepares a Cargo Selectivity entry via an ABI transmission in the Automated Commercial System (ACS) before the merchandise arrives at a FAST designated border site. When the merchandise arrives at the site, the CBP inspector electronically records (scans) the barcode information, which automatically retrieves the entry information from the ACS system. If no examination is needed, the inspector may release the truck from the primary booth; thus, reducing the carrier's wait time and easing congestion at that border crossing.

Eligibility requirements for participation in FAST vary according to the cargo release system option selected. Participation in either FAST-PAPS or the fully electronic cargo release version of FAST is subject to the guidelines provided below. In addition, participation in FAST utilizing the fully electronic cargo release system requires an importer to submit an application to CBP containing detailed information on its trading partners and carriers, and other pertinent information, in advance of commencement of shipping of merchandise. Updated and complete application instructions for the fully electronic cargo release method are provided under the Application for FAST section below.

FAST Participation Guidelines

Subject to the provisions of the notice of August 21, 1998 (63 FR 44949), all importers, highway carriers, commercial drivers, and some foreign manufacturers participating in either of the two cargo release methods available under the FAST prototype must meet certain guidelines, as summarized below:

Northern and Southern Border Requirements

In order to qualify for expedited processing along the Northern and Southern borders, imported merchandise must be:

(1) Entered by an importer approved for C-TPAT membership;

(2) Transported by a carrier approved for C-TPAT membership and approved under either the U.S./Canada Border Highway Carriers Agreement or the Southern Border Highway Carriers Agreement; and

(3) Driven by a commercial driver registered and approved under either the U.S./Canada FAST Commercial Driver Program or the U.S. FAST Commercial Driver Program.

Southern Border Requirements

FAST processing along the Southern border requires compliance with the eligibility provisions (1)-(3), above, in addition to the following two provisions:

(4) Imported merchandise must have been manufactured by a manufacturer approved for C-TPAT membership;

(5) ISO/PAS 17712 high security seals must be affixed to the trucks, trailers and containers used to carry the goods to the port of arrival.

The C-TPAT is a joint government-business initiative to build cooperative relationships that strengthen overall supply chain and border security for the U.S. Under the FAST prototype, importers must be C-TPAT-approved, importers must utilize only C-TPAT-approved highway carriers participating under either one of the listed highway carriers agreements, and highway carriers must utilize only FAST-registered commercial drivers for FAST processing. Detailed information on C-TPAT approval, the highway carriers agreements, and FAST commercial drivers registration procedures are addressed on the CBP Web site.

For importations along the Southern border only, the foreign manufacturer of the merchandise being processed also must be C-TPAT-approved. The foreign manufacturer must affix ISO/PAS 17712 high security seals (manufactured to International Organization for Standardization (ISO) standards from an approved ISO manufacturer) to the trucks, trailers, and containers used to carry the merchandise to the Southern border site. Incoming manifests for expedited Southern border processing must document seal numbers.

CBP will determine the eligibility of the importer, highway carrier, commercial driver, and foreign manufacturer, when applicable, to participate under FAST processing of merchandise. Conveyances not meeting the basic guidelines for FAST participation may be redirected to other non-FAST vehicle lanes or be otherwise delayed in processing at the port of arrival.

For commercial drivers seeking participation in FAST processing along the Southern border, but whom CBP deems ineligible for participation, CBP plans to issue the applicant a CBP identification card instead, which will grant access to commercial truck facilities along the Southern border.

Application for FAST—Fully Electronic Cargo Release

For ease of reference, this notice provides complete and updated application instructions to importers wishing to participate in the fully electronic version of FAST.

To qualify for FAST processing utilizing the fully electronic cargo release system, importers must meet the FAST participation guidelines discussed above, and must submit an application to the St. Albans, Vermont, Service Port at the address indicated above, with the following information:

A. Importer's name, address, and IRS employer identification number or social security number;

B. Names and addresses of all manufacturers and all sellers/vendors for the electronic FAST prototype;

C. A listing of all the 6-digit HTS numbers under which the imported commodities will be classified;

D. The surety and surety code and the number of the continuous surety bond which will cover all cargo processed under FAST procedures. If the applicant plans to reconcile their FAST entry summaries, a commitment to file the bond rider prior to flagging underlying entry summaries for reconciliation, along with identification of the port in which the continuous bond and rider are filed must be included;

E. Names, addresses, and SCAC's of C-TPAT highway carriers who will be transporting FAST shipments across the international borders;

F. Names, addresses and filer codes of any customs brokers who will be filing data;

G. The approximate total number of entries per month expected to be processed at each of the following locations:

1. Port Huron (Blue Water Bridge), Michigan;

2. Detroit (Ambassador Bridge), Michigan;

3. Blaine, Washington;

4. Buffalo (including the Peace Bridge and Lewiston Bridge), New York;

5. Champlain, New York; and

6. Laredo, Texas.

H. Detailed description of anticipated issues and/or commodities for which the participant anticipates electing reconciliation.

CBP will make admissibility determinations on fully electronic FAST processing of merchandise based on cargo examinations and the information supplied with the application, which will serve as a pre-filed entry for FAST purposes. Importers who submit applications to participate in the fully electronic version of the FAST prototype will be notified in writing of their acceptance or rejection. If an applicant is denied participation, the notification letter will include the reasons for that denial. An importer whose initial application was rejected may resubmit an application upon correction of the situation that led to the rejection.

FAST Processing Border Sites

This document provides an updated and complete list of participating FAST processing border sites along the Northern and Southern borders. CBP assessed several factors in selecting expedited border sites along the Northern and Southern borders, including road infrastructure, adequacy of port facilities, and commercial traffic volumes. CBP further assessed service needs and concerns to support major importers along the U.S./Canadian border, and assessed enhanced security requirements and expeditious commercial requirements along the U.S./Mexican border.

The fully electronic cargo release system is available only at five Northern border sites, and one Southern border site, and requires a participant to invest in a fully electronic communication system with CBP. In contrast, FAST-PAPS release is available to all qualifying ABI participants and at all FAST border sites.

The following is a complete list of FAST-participating Northern border sites. Unless otherwise indicated, both methods of cargo release under the FAST prototype are currently available at a site:

(1) Port Huron (Blue Water Bridge), Michigan;

(2) Detroit (Ambassador Bridge), Michigan;

(3) Blaine, Washington;

(4) Buffalo (including the Peace Bridge and Lewiston Bridge), New York;

(5) Champlain, New York;

(6) Pembina, North Dakota (FAST-PAPS only);

(7) Portal, North Dakota (FAST-PAPS only);

(8) Sweet Grass, Montana (FAST-PAPS only);

(9) Derby Line, Vermont (FAST-PAPS only);

(10) Highgate Springs, Vermont (FAST-PAPS only);

(11) Alexandria Bay, New York (FAST-PAPS only);

(12) Houlton, Maine (enrollment center only).

Expedited processing of merchandise was previously suspended at the Southern border port of Laredo, Texas. While both the fully electronic and PAPS versions of FAST expedited processing will now be available at the port of Laredo, only the PAPS version will be available at the remaining participating Southern border sites:

(1) Laredo, Texas;

(2) El Paso, Texas (FAST-PAPS only);

(3) Hidalgo, Texas (FAST-PAPS only);

(4) Brownsville, Texas (FAST-PAPS only);

(5) Otay Mesa, California (FAST-PAPS only);

(6) Calexico, California (FAST-PAPS only);

(7) Nogales, Arizona (FAST-PAPS only).

An importer wishing to participate in the fully electronic version of FAST at a port listed as only FAST-PAPS capable, should notify CBP of its interest by contacting the FAST Processing Center. CBP will evaluate the amount of volume expected to be cleared in a port, and determine if the investment in technology and training necessary for both parties justifies the expense.

Dated: September 22, 2003.
Jayson P. Ahern,
Assistant Commissioner, Office of Field Operations.

[FR Doc. 03-24260 Filed 9-24-03; 8:45 am]

BILLING CODE 4820-02-P